DEPARTMENT OF THE INTERIOR

Bureau of Land Management

[BLM_NV_FRN_MO4500171133]

Notice of Availability of the Final Environmental Impact Statement for Nevada Vanadium Company Gibellini Vanadium Mine Project, Eureka County, Nevada

AGENCY: Bureau of Land Management, Interior.

ACTION: Notice of availability.

SUMMARY: In compliance with the National Environmental Policy Act of 1969, as amended (NEPA), and the Federal Land Policy and Management Act of 1976, as amended (FLPMA), the Bureau of Land Management (BLM) announces the availability of the Final Environmental Impact Statement (EIS) for the Nevada Vanadium Company Gibellini Vanadium Mine Project.

DATES: The BLM will not issue a decision on the proposal for a minimum of 30 days after the date that the Environmental Protection Agency (EPA) publishes its Notice of Availability in the Federal Register.

ADDRESSES: The Final EIS and documents pertinent to this proposal are available for review on the BLM ePlanning project website at https://eplanning.blm.gov/eplanning-ui/project/2000633/510.

FOR FURTHER INFORMATION CONTACT: Scott Distel, Project Manager, telephone: (775) 635-4093; address: 50 Bastian Road, Battle Mountain, Nevada, 89820; email: sdistel@blm.gov. Individuals in the United States who are deaf, deafblind, hard of hearing, or have a speech disability may dial 711 (TTY, TDD, or TeleBraille) to access telecommunications relay services for contacting Mr. Distel. Individuals outside the United States should use the relay services offered within their country to make international calls to the point-of-contact in the United States.

SUPPLEMENTARY INFORMATION:

Purpose and Need for the Proposed Action

The BLM's purpose for the action is to respond to Nevada Vanadium Company's (NVV) proposal, as described in its proposed Plan of Operations, and to analyze the potential environmental effects associated with the Proposed Action, which is the operator's proposed Plan of Operations, and alternatives to the Proposed Action. NEPA mandates that the BLM evaluate the potential effects of the Proposed Action and develop alternatives. The BLM's need for the action is established by the BLM's responsibilities under section 302 of FLPMA and the BLM Surface Management Regulations at 43 CFR subpart 3809 to respond to a proposed Plan of Operations and ensure that operations prevent unnecessary or undue degradation of the public lands.

Proposed Action and Alternatives

Under the proposed Plan of Operations, NVV would construct and operate an open pit mine in the southern extent of the Fish Creek Range. Facilities associated with the Proposed Action include development of an open pit mine, rock disposal area, crushing facilities and stockpile, heap leach pad, process facility, process and make-up water ponds, borrow areas, mine and access roads, water and power supply lines, and ancillary facilities. The estimated project life consists of 1.5 years of construction, 7 years of operation, 4 years of active reclamation and closure, and up to 30 years of post-closure monitoring. In addition, NVV would complete exploration operations as part of the proposed Plan of Operations. The project area includes a total of 6,456 acres of BLM-administered public lands, of which approximately 806 acres of surface disturbance would occur due to project-related operations. No state or private lands are included in the project area. The operator would reclaim surface disturbances under the Proposed Action and would prevent unnecessary or undue degradation of the lands. Final reclamation of the project area would occur at the end the project although every effort would be made to identify concurrent reclamation opportunities during the life of the operation.

The South Access Road Alternative would include the same mine components as described for the Proposed Action, except the access road would be constructed in a different location. This alternative access road would be approximately 7 miles long and extend from County Road M-103 (Duckwater Road) to the project area. The access road would be constructed parallel to the power line corridor. Overall, this alternative would result in approximately 38 additional acres of surface disturbance relative to the Proposed Action. Total surface disturbance would include 844 acres of BLM-administered land. Post-reclamation topography would be similar to that of the Proposed Action, except the access road would be in a different location.

The Renewable Energy Alternative would consist of the same overall operations as described for the Proposed Action except this alternative would include supporting the mine operations with a combination of renewable energy sources and a utility interconnection with future large-scale battery storage. This alternative would include the installation of a solar energy facility with enough solar electric photovoltaic capacity for the site to become a net generation facility with battery storage able to perform peak smoothing and daily load management.

This alternative would result in approximately 33 additional acres of surface disturbance compared to the Proposed Action. Total surface disturbance for the Renewable Energy Alternative would include 839 acres of public lands.

Under the No Action Alternative, the BLM would not authorize the Plan of Operations, and the operations described in the Proposed Action would not occur. Mineral resources would remain undeveloped, and the construction and operation of the proposed mine and associated facilities would not occur.

Based on the analyses contained in the EIS for the proposed Gibellini Vanadium Mine Project, and after carefully considering input received from the public and cooperating agencies, the BLM has selected the Renewable Energy Alternative as the BLM's environmentally preferred alternative.

Public comments on the Draft EIS received and internal BLM review were considered and incorporated as appropriate into the Final EIS. Public comments resulted in the addition of clarifying text but did not significantly change the impact analyses.

(Authority: 40 CFR 1506.6, 40 CFR 1506.10.)

Douglas W. Furtado,
District Manager, Battle Mountain District.

[FR Doc. 2023-19920 Filed 9-14-23; 8:45 am]

BILLING CODE 4331-21-P